DEPARTMENT OF HOMELAND SECURITY

Coast Guard

33 CFR Part 165

[Docket No. USCG-2012-1069]

RIN 1625-AA00

Safety Zone—Chelsea River, Boston Inner Harbor, Boston, MA

AGENCY: Coast Guard, DHS.

ACTION: Advance notice of proposed rulemaking; solicitation for comments.

SUMMARY: The Coast Guard is soliciting public comment on the continued applicability of, or the need to amend an existing regulation; 33 CFR 165.120, Safety Zone: Chelsea River, Boston Inner Harbor, Boston, MA. This advance notice allows the Coast Guard to gather information from the public and waterway stakeholders that use the Chelsea River that may result in an amendment to, or the disestablishment of, the existing regulation. Any proposed amendments should reflect the recent changes to the Chelsea Street Bridge and the modification of the surrounding navigational channel. The comments and recommendations received from this advanced notice may lead to future rulemaking.

DATES: Comments and related material must be received by the Coast Guard on or before May 31, 2013.

Requests for additional public meetings must be received by the Coast Guard on or before March 18, 2013.

ADDRESSES: You may submit comments identified by docket number USCG-2012-1069 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or email Mr. Mark Cutter, Coast Guard Sector Boston Waterways Management Division, telephone 617-223-4000, email Mark.E.Cutter@uscg.mil. If you have questions on viewing or submitting material to the docket, call Renee V. Wright, Program Manager, Docket Operations, telephone 202-366-9826.

SUPPLEMENTARY INFORMATION:

Table of Acronyms
COTP | Captain of the Port
DHS | Department of Homeland Security
FR | Federal Register
NPRM | Notice of Proposed Rulemaking

A. Public Participation and Request for Comments

We encourage you to participate in this rulemaking by submitting comments and related materials. All comments received will be posted without change to http://www.regulations.gov and will include any personal information you have provided.

1. Submitting comments

If you submit a comment, please include the docket number for this rulemaking (USCG-2012-1069), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number (USCG-2012-1069) in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing comments and documents

To view comments, as well as documents mentioned in this preamble as being available in the docket, go to http://www.regulations.gov, type the docket number “USCG-2012-1069” in the “SEARCH” box and click “Search.” Click and Open Docket Folder on the line associated with this rulemaking. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public meeting

The Coast Guard will hold two public scoping meetings in order to expand the opportunity for public comment. We seek comments from any interested or effected stakeholders and encourage all stakeholders to attend these meetings. We will also provide a written summary of the meetings and comments and will place that summary in the docket. A teleconference phone number has been established for those who desire to participate, but are unable to attend the meetings in person; call toll free 1-877-672-3882, follow the instructions given on the phone and enter the following pass code #4890957 when prompted.

For information on the facility or services for individuals with disabilities or to request special assistance at the public meeting contact Mr. Mark Cutter, Coast Guard Sector Boston Waterways Management Division, at telephone 617-223-4000 or via email at Mark.E.Cutter@uscg.mil.

DATES: The public scoping meetings are currently planned for the following dates, to be held at U.S. Coast Guard Base Boston, 455 Commercial Street, Boston, MA 02109:

• March 6, 2013, from 11:00 a.m. to 12:00 p.m.;

• April 24, 2013, from 11:00 a.m. to 12:00 p.m.

B. Background

The original Chelsea Street Bridge was a bascule-type bridge owned by the City of Boston and constructed in 1939. It spanned the Chelsea River providing a means for vehicles to travel between Chelsea, MA and East Boston, MA. Several petroleum-product transfer facilities are located on the Chelsea River, upstream and downstream of the Chelsea Street Bridge. Transit of tank vessels through the bridge is necessary to access the petroleum facilities upstream of the bridge. The narrow, ninety-six foot horizontal span created a narrow passage through the bridge for larger vessels. Adding to the difficulty is the close proximity of neighboring shore structures and, at times, vessels moored at the Sunoco Logistics facility downstream of the bridge on the East Boston side. These factors led to the establishment of the present safety zone regulation which restricts certain vessel passage through the Chelsea Street Bridge based on vessel dimensional criteria, assist tug support, and daylight restrictions.

Since the implementation of the regulations, physical changes have occurred within the confines of the safety zone. A new vertical lift span bridge with a 175 foot vertical clearance and a 175 foot horizontal navigable channel span has been constructed in place of the old Chelsea Street Bridge. The federal navigational channel has been expanded to a width of 175 feet. Six new permanent fixed lighted aids to navigation structures have been installed in the immediate area of the bridge to best mark the new channel.

While the current regulations have provided an acceptable level of safety, it may be desirable to amend or disestablish the current regulation in light of the new bridge and navigational channel improvements within the area of the existing safety zone.

C. Information requested

The Coast Guard is seeking comments pertaining to the existing safety zone in the vicinity of the Chelsea Street Bridge in light of the modified waterway. In particular, comments addressing the need and or relevancy of regulations governing vessel dimensional restrictions, assist tug requirements, and transits between sunset and sunrise are requested.

Additionally, the Coast Guard welcomes input and possible solutions regarding any other navigational and waterway safety issue on the Chelsea River that is not currently addressed in the existing safety zone regulation.

Dated: January 15, 2013.
J.C. O'Connor, III,
Captain, U.S. Coast Guard, Captain of the Port Boston.

[FR Doc. 2013-02080 Filed 1-30-13; 8:45 am]

BILLING CODE 9110-04-P